DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy.

Navy Case No. 84,430: A Data Structure and Associated Algorithms for Assessing Dispersion in Complex Geometry.

Navy Case No. 84,431: CT-Analyst, A Software System for Zero-Latency, High-Fidelity Emergency Assessment of Airborne Chemical, Biological and Radiological (CBR) Threats.

Navy Case No. 95,906: Reagentless and Reusable Biosensors with Tunable Differential Binding Affinities.

ADDRESSES: Requests for information about the invention cited should be directed to the Naval Research Laboratory, Code 1004, 4555 Overlook Avenue, SW., Washington, DC 20375-5320, and must include the Navy Case number.

FOR FURTHER INFORMATION CONTACT: Jane Kuhl, Technology Transfer Office, NRL Code 1004, 4555 Overlook Avenue, SW., Washington, DC 20375-5320, telephone (202) 767-3083. Due to temporary U.S. Postal Service delays, please fax (202) 404-7920, e-mail: kuhl@nrl.navy.mil or use courier delivery to expedite response.

(Authority: 35 U.S.C. 207, 37 CFR part 404)
Dated: June 25, 2004.
S.K. Melancon,
Paralegal Specialist, Office of the Judge Advocate General, Alternate Federal Register Liaison Officer.

[FR Doc. 04-14929 Filed 6-30-04; 8:45 am]

BILLING CODE 3810-FF-P